DEPARTMENT OF LABOR

Office of the Secretary

Submission for OMB Review; Comment Request

February 20, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King at (202) 693-4129 or E-Mail to King-Darrin@dol.gov.

Comments should be sent to Office of Information and Regulatory Affairs, Attn: OMB Desk Officer for ESA, Office of Management and Budget, room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Employment Standards Administration (ESA).

Title: Davis-Bacon and Related Acts/Contract Work Hours and Safety Standards Act Reporting Requirements.

OMB Number: 1215-0140.

Affected Public: Business or other for-profit; State, Local, or Tribal Government, and Federal Government.

Frequency: On occasion.

Requirement | No. of respondents | No. of responses | Estimated time per response | Burden hours
Conformance Report | 3,500 | 3,500 | 15 minutes | 875
Unfunded Fringe Benefit Plans | 6 | 6 | 6 hours | 6
Total | 3,506 | 3,506 |  | 881

Total Annualized Capital/Startup Costs: $0.

Total Annual Costs (operating/maintaining systems or purchasing services): $1,297.

Description: 29 CFR section 5.5 requires Federal contractors to report on conformed classifications and wage rates and to submit requests for approval of unfunded fringe benefit plans to the Department of Labor. This collection of information is necessary to ensure that federal contractors are in compliance with the Davis-Bacon and Related Acts (DBRA) as well as the Contract Work Hours and Safety Standards Act (CWHSSA).

Type of Review: Extension of a currently approved collection.

Agency: Employment Standards Administration (ESA).

Title: Rehabilitation Maintenance Certification.

OMB Number: 1215-0155.

Affected Public: Individuals or households.

Frequency: On occasion, annually, and semi-annually.

Form | Number of respondents/ responses | Frequency | Average time per form | Burden hours
CA-5 | 150 | Once | 90 | 225
CA-5b | 20 | Once | 90 | 30
CA-1615 | 600 | Once | 30 | 300
CA-1617 | 300 | Semiannually | 30 | 150
CA-1085 | 500 | Once | 45 | 375
CA-1031 | 150 | Annually | 15 | 37
CA-1074 | 10 | Once | 60 | 10
CA-1093 | 15 | Once | 30 | 7
CA-1618 | 150 | Semiannually | 30 | 75
Total | 1,895 |  |  | 1,210

Total Annualized Capital/Startup Costs: $0.

Total Annual Costs (operating/maintaining systems or purchasing services): $0.

Description: These reports request information from the survivors of deceased Federal employees that verify dependent status when making a claim for benefits, and on a periodic basis in accepted claims. Some of the forms are used to obtain information in claimed dependents in disability cases. The collection of this information is required to receive benefits under the Federal Employees' Compensation Act (FECA/U.S.C. 8110) and are authorized by 20 CFR 10.7, 10.105, 10.410, 10.413, 10.417, 10.535, 10.537.

Ira L. Mills,
Departmental Clearance Officer.

[FR Doc. 01-5080 Filed 3-1-01; 8:45 am]

BILLING CODE 4510-22-M